DEPARTMENT OF HEALTH AND HUMAN SERVICES

Centers for Disease Control and Prevention

[30Day-24-0106]

Agency Forms Undergoing Paperwork Reduction Act Review

In accordance with the Paperwork Reduction Act of 1995, the Centers for Disease Control and Prevention (CDC) has submitted the information collection request titled “Preventive Health and Health Services Block Grant” to the Office of Management and Budget (OMB) for review and approval. CDC previously published a “Proposed Data Collection Submitted for Public Comment and Recommendations” notice on May 1, 2023 to obtain comments from the public and affected agencies. CDC received one comment related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Preventive Health and Health Services Block Grant (OMB Control No. 0920-0106, Exp. 2/29/2024)—Revision—National Center for State, Tribal, Local and Territorial Public Health Infrastructure and Workforce (NCSTLTPHIW), Centers for Disease Control and Prevention (CDC).

Background and Brief Description

The CDC's National Center for State, Tribal, Local and Territorial Public Health Infrastructure and Workforce (NCSTLTPHIW) plays a vital role in helping health agencies work to enhance their capacity and improve their performance to strengthen the public health system on all levels. NCSTLTPHIW is CDC's primary connection to health officials and leaders of State, Tribal, local, and Territorial public health agencies, as well as other government leaders who work with health departments.

NCSTLTPHIW administers the Preventive Health and Health Services Block Grant (PHHSBG) for health promotion and disease prevention programs. Sixty-one (61) recipients (50 states, the District of Columbia, two American Indian Tribes, five U.S. territories, and three freely associated states) receive block grant funds to address locally-defined public health needs in innovative ways. The PHHSBG allows awardees to prioritize the use of funds to fill funding gaps in programs that deal with leading causes of death and disability, as well as the ability to respond rapidly to emerging health issues, including outbreaks of food-borne infections and water-borne diseases.

As specified in the authorizing legislation for the PHHSBG, CDC collects information from recipients to monitor their objectives and activities. Since 2021, this information has been reported through a web-based electronic system, the Block Grant Information System (BGIS). Each recipient is required to submit a work plan with its selected health outcome objectives, as well as descriptions of the health problems, identified target populations (including portions of those populations disproportionately affected by the health problems), and activities to be addressed in the planned work.

In this Revision, CDC requests OMB approval to subdivide the previously approved annual Workplan (12 hours) into two sections: the “Workplan Start and Advisory Committee Questions Worksheet” (two hours) and the “Workplan Program Questions Worksheet” (10 hours). There are no changes to the previously approved questions or the net annualized burden estimate for the Workplan (732 hours). However, questions have been regrouped to improve logical flow, and selected instructions to respondents have been revised for clarity and ease of use. The Annual Progress Report will be continued without changes in total burden hours (671 annualized burden hours), though the burden table is revised to describe how program collects two different sets of questions within the Annual Progress Report (Interim progress questions (seven hours) and Final progress questions (four hours). These revisions to the burden table enable program to better monitor and provide technical assistance to respondents. The Recipient Information Collection will be deleted from the burden table (−122 annualized burden hours). The BGIS will retain this information, however, the one-time burden of entering the Recipient Information was accounted for in the previous approval period.

CDC will continue to use the PHHSBG information collection to identify activities and personnel supported with Block Grant funding, monitor expenditure of funds and recipients' progress toward their objectives, conduct compliance reviews of Block Grant recipients, and promote the use of evidence-based guidelines and interventions. OMB approval is requested for three years. All information is submitted annually through the electronic BGIS. The total annualized estimated burden is 1,403 hours. There are no costs to respondents other than their time to participate.

Estimated Annualized Burden Hours
Type of respondents | Form name | Number of respondents | Number of responses per respondent | Average burden per response (in hours)
PHHS Block Grant Coordinator | Workplan start and advisory committee questions worksheet | 61 | 1 | 2
PHHS Block Grant Coordinator | Workplan program questions worksheet | 61 | 1 | 10
PHHS Block Grant Coordinator | Annual Progress Report template (subset of Interim Progress questions) | 61 | 1 | 7
PHHS Block Grant Coordinator | Annual Progress Report template (subset of Final Progress questions) | 61 | 1 | 4

Jeffrey M. Zirger,
Lead, Information Collection Review Office, Office of Public Health Ethics and Regulations, Office of Science, Centers for Disease Control and Prevention.

[FR Doc. 2024-01549 Filed 1-25-24; 8:45 am]

BILLING CODE 4163-18-P